NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by March 12, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Robert A. Blanchette, University of Minnesota, 1991 Upper Buford Circle, St. Paul, MN 55108.

Permit Application: 2012-013.

Activity for Which Permit Is Requested: Take and Import into the U.S.A. The applicant plans to collect and transport fungi (mushrooms and other fruiting structures) for DNA extraction and taxonomic identification for investigations to better understand recycling organisms in the polar ecosystem. The applicant will also collect and transport soil samples to isolate soil microorganisms.

Location: Palmer Station vicinity, Anders Island, Antarctic Peninsula.

Dates: February 2, 2012 to December 31, 2014.

2. Applicant: H. William Detrich, III, Department of Biology, 134 Mugar Hall, Northeastern University, Boston, MA 02115.

Permit Application: 2012-014.

Activity for Which Permit Is Requested: Enter Antarctic Specially Protected Areas and Introduce Non-indigenous species into Antarctica. The applicant plans to enter ASPA 152-Western Bransfield Strait and ASPA 153-Eastern Dallmann Bay to capture Antarctic fish by trawling and trapping. The live fishes will be transported to the aquarium facilities at Palmer Station for experimentation. The applicant will use Escherichia coli strain BL21DE3 for the production of ³⁵S-labeled proteins to be used in protein folding assays in the continued analysis of a cold-functioning chaperonin protein folding system from testis tissue of the Antarctic fish.

Location: ASPA 152-Western Bransfield Strait and ASPA 153-Eastern Dallmann Bay, and Palmer Station, Anders Island, Antarctic Peninsula.

Dates: March 21, 2012 to June 21, 2012.

Nadene G. Kennedy,
Permit Officer, Office of Polar Programs.

[FR Doc. 2012-2947 Filed 2-8-12; 8:45 am]

BILLING CODE 7555-01-P